DEPARTMENT OF DEFENSE

Department of the Army

Privacy Act of 1974; System of Records

AGENCY: Department of the Army, DoD.

ACTION: Notice to alter a System of Records.

SUMMARY: The Department of the Army is altering a system of records notice in its existing inventory of record systems subject to the Privacy Act of 1974, (5 U.S.C. 552a), as amended.

DATES: This proposed action will be effective without further notice on May 14, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on April 3, 2001, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 6, 2001.
L.M. Bynum,
Alternate OSD Federal Register Liaison Officer, Department of Defense.

A0380-19 SAIS

System Name:

Access to Computer Areas, Systems Electronically, and/or Data Control Records (February 22, 1993, 58 FR 10002).

Changes:

* * * * *

System Name:

Delete entry and replace with “Information Assurance For Automated Information Systems (AIS) Files.”

System Location:

Delete entry and replace with “Department of Defense (DoD) automated information systems which process, store, or transmit DoD information.”

Categories of Individuals Covered by the System:

Delete entry and replace with “Individuals covered include, but is not limited to, Department of Defense civilian personnel; military personnel and Military Reserve personnel; contractor personnel; and Army and Air National Guard personnel”.

Categories of Records in the System:

Add to entry “biometrics templates and supporting documents”.

Authority for Maintenance of the System:

Delete entry and replace with “Pub. L. 106-246, Section 112; 10 U.S.C. 3013, Secretary of the Army; 10 U.S.C. 5013, Secretary of the Navy; 10 U.S.C. 8013, Secretary of the Air Force; DoD Directive 8500.aa, Information Assurance (IA); Army Regulation 380-19, Information Systems Security; and E.O. 9397 (SSN).”

Purpose(s):

Add a new paragraph to entry “Biometrics records are used to control access to DoD information and information based systems by authenticating the identity of a user.”

* * * * *

Storage:

Delete entry and replace with “Paper records in file folders and electronic storage media.”

Retrievability:

Add “Social Security Number” to entry.

Safeguards:

Delete entry and replace with “Computerized records maintained in a controlled area are accessible only to authorized personnel. Physical and electronic access is restricted to designated individuals having a need therefore in the performance of official duties.”

* * * * *

Record Source Categories:

Delete entry and replace with ‘From the individual, DoD security offices, system managers, computer facility managers, automated interfaces for user codes on file at Army sites.’

* * * * *

A0380-19 SAIS

System Name:

Information Assurance For Automated Information Systems (AIS) Files.

System Location:

Department of Defense (DoD) automated information systems which process, store, or transmit DoD information.

Categories of Individuals Covered by the System:

Individuals covered includes, but not limited to, Department of Defense civilian personnel; military personnel and Military Reserve personnel; contractor personnel; and Army and Air National Guard personnel.

Categories of Records in the System:

Operator's/user's name, Social Security Number, organization, telephone number, and office symbol; security clearance; level of access; subject interest code; user identification code; data files retained by users; assigned password; magnetic tape reel identification; abstracts of computer programs and names and phone numbers of contributors; similar relevant information; biometrics templates and supporting documents.

Authority for Maintenance of the System:

Pub. L. 106-246, Section 112; 10 U.S.C. 3013, Secretary of the Army; 10 U.S.C. 5013, Secretary of the Navy; 10 U.S.C. 8013, Secretary of the Air Force; Department of Defense Directive 8500.aa, Information Assurance (IA); Army Regulation 380-19, Information Systems Security; and E.O. 9397 (SSN).

Purpose(s):

To administer passwords and identification numbers for operators/users of data in automated media; to identify data processing and communication customers authorized access to or disclosure from data residing in information processing and/or communication activities; and to determine propriety of individual access into the physical data residing in automated media.

Biometrics records are used to control access to DoD information and information based systems by authenticating the identity of a user.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and Practices for Storing, Retrieving, Accessing, Retaining and Disposing of Records in the System:

Storage:

Paper records in file folders and electronic storage media.

Retrievability:

Name, Social Security Number, subject, user identification code, news item number, user password, application program key word/author.

Safeguards:

Computerized records maintained in a controlled area are accessible only to authorized personnel. Physical and electronic access is restricted to designated individuals having a need therefore in the performance of official duties.

Retention and Disposal:

Individual data remain on file while a user of computer facility; destroyed on person's reassignment or termination.

System Manager(s) and Address:

Director of Information Systems for Command, Control, Communications, and Computers, ATTN: SAIS-IDP, Department of the Army, 107 Army Pentagon, Washington, DC 20310-0107.

Notification Procedure:

Individuals seeking to determine whether information about themselves is contained in this system should address written inquiries to the Privacy Act Officer, Director of Information Systems for Command, Control, Communications, and Computers, Department of the Army, 107 Army Pentagon, Washington, DC 20310-0107.

For verification purposes, individual should provide full name, sufficient details to permit locating pertinent records, and signature.

Record Access Procedures:

Individuals seeking access to information about themselves contained in this system should address written inquiries to the Privacy Act Officer, Director of Information Systems for Command, Control, Communications, and Computers, Department of the Army, 107 Army Pentagon, Washington, DC 20310-0107.

For verification purposes, individual should provide full name, sufficient details to permit locating pertinent records, and signature.

Contesting Record Procedures:

The Army's rules for accessing records, and for contesting contents and appealing initial agency determinations are contained in Army Regulation 340-21; 32 CFR part 505; or may be obtained from the system manager.

Record Source Categories:

From the individual, DoD security offices, system managers, computer facility managers, automated interfaces for user codes on file at Army sites.

Exemptions Claimed for the System:

None.

[FR Doc. 01-9135 Filed 4-12-01; 8:45 am]

BILLING CODE 5001-10-M